DEPARTMENT OF TRANSPORTATION

Federal Aviation Administration

Noise Compatibility Program for Laredo International Airport, Webb County, Texas

AGENCY: Federal Aviation Administration (FAA), DOT.

ACTION: Notice of receipt and request for review of noise compatibility program.

SUMMARY: The Federal Aviation Administration (FAA) announces the start of its review of the noise compatibility program for Laredo International Airport submitted by City of Laredo and the availability of this program for public review and comment. The Laredo International Airport noise compatibility program will be approved or disapproved 180 days from date of publication in the Federal Register.

DATES: The effective date of the start of the FAA review of the noise compatibility program (NCP) is March 31, 2025. The public comment period for the proposed NCP ends June 2, 2025.

FOR FURTHER INFORMATION CONTACT: Sana Drissi, 10101 Hillwood Parkway, Fort Worth, Texas 76177, 817-222-5418. Comments on the proposed noise compatibility program should be submitted to the above office.

SUPPLEMENTARY INFORMATION: In accordance with title 49, United States Code (U.S.C.) 47503 of the Aviation Safety and Noise Abatement Act, an airport operator may submit to the FAA, noise exposure maps (NEM) depicting non-compatible uses and other information as of the date the map was submitted. In accordance with 49 U.S.C. 47504, an airport operator that submits an NEM the FAA determined complied with statutory and regulatory requirements, may submit for FAA approval, an NCP identifying measures the airport operator has taken or proposes to take to reduce existing non-compatible land uses and prevents the introduction of additional non-compatible uses.

On March 31, 2025, City of Laredo submitted noise exposure maps (NEMs), descriptions and other supporting documentation for Laredo International Airport, for FAA's review and acceptance. An NEM must include a description of estimated aircraft operations during a forecast period that is at least five years in the future and how those operations will affect the map and other information. The FAA completed its review of the NEMs and supporting documentation and determined the NEMs comply with the applicable statutory and regulatory requirements. That determination was effective on August 25, 2022. FAA's determinations for the NEMs submitted by City of Laredo is limited to a finding that the maps were developed in accordance with 49 U.S.C. 47503 and the procedures in Appendix A of 14 CFR part 150. FAA's determination does not constitute approval of the City of Laredo data, information or plans, or constitute a commitment to approve a noise compatibility program or to fund the implementation of that program. If questions arise concerning the precise relationship of specific properties to noise exposure contours depicted on an NEM associated with this NCP it should be noted the FAA is not involved in any way in determining the relative locations of specific properties with regard to the depicted noise contours, or in interpreting the NEMs to resolve questions concerning, for example, which properties should be covered by the provisions of 49 U.S.C. 47506. These functions are inseparable from the land use control and planning responsibilities of local government. These local responsibilities are not changed in any way under 14 CFR part 150 or through FAA's review of NEMs. Therefore, the responsibility for the detailed overlaying of noise exposure contours onto the map depicting properties on the surface rests exclusively with the City of Laredo that submitted the NEMs or with those public agencies and planning agencies with which consultation is required. The FAA relied on the certification by the City of Laredo this required consultation was accomplished per 14 CFR 150.21 and 49 U.S.C. 47503.

The FAA formally received the proposed noise compatibility program (NCP) for City of Laredo for review on March 31, 2025. The formal review period, limited by law to a maximum of 180 days will be completed on or before 180 days from date of publication in the Federal Register.

Preliminary review of the submitted material indicates that it conforms to the requirements for submittal of an NCP, but further review will be necessary prior to approval or disapproval of the program. The primary considerations in the evaluation process are whether the proposed measures may reduce the level of aviation safety, create an undue burden on interstate or foreign commerce, or be reasonably consistent with obtaining the goal of reducing existing non-compatible land uses and preventing the introduction of additional non-compatible land uses.

Interested persons are invited to comment on the proposed program with specific reference to these factors. All comments relating to these factors, other than those properly addressed to local land use authorities, will be considered by the FAA to the extent practicable. Copies of the noise exposure maps and the proposed noise compatibility program are available for examination at the following location: Laredo International Airport, 5210 Bob Bullock Loop, Laredo, TX 78041, Phone: 956-795-2000, https://flylaredotexas.com/business/development-plans-and-projects/.

Questions regarding this notice may be directed to the individual named above under the heading, FOR FURTHER INFORMATION CONTACT.

Issued in Fort Worth, Texas, on March 31, 2025.
D. Cameron Bryan,
Director (A), Airports Division, Southwest Regional Office.

[FR Doc. 2025-05726 Filed 4-2-25; 8:45 am]

BILLING CODE 4910-13-P